DEPARTMENT OF TRANSPORTATION

Federal Highway Administration

[4910-RY]

Final Environmental Impact Statement and Record of Decision for the Earthquake Ready Burnside Bridge Project

AGENCY: Federal Highway Administration (FHWA), DOT.

ACTION: Notice.

SUMMARY: The FHWA is issuing this notice to advise other Federal, State, and local agencies, Tribes, and the public that a combined Final Environmental Impact Statement (FEIS) and Record of Decision (ROD) have been prepared in accordance with the National Environmental Policy Act for the Earthquake Ready Burnside Bridge (EQRBB) Project to create a seismically resilient Burnside Street lifeline route crossing of the Willamette River in Portland, Oregon.

FOR FURTHER INFORMATION CONTACT: Keith Lynch, Division Administrator, Federal Highway Administration, 530 Center Street NE, Suite 420, Salem, OR 97301; Telephone: (503) 316-2540. Thomas Parker, Environmental Program Manager, Federal Highway Administration, 530 Center Street NE, Suite 420, Salem, OR 97301; Telephone: (503) 316-2549.

SUPPLEMENTARY INFORMATION: The FHWA, the Oregon Department of Transportation (ODOT), and Multnomah County (County) propose to undertake the seismic improvement of the Burnside Bridge over the Willamette River in Portland, Oregon. Federal cooperating agencies in the preparation of the FEIS and ROD include the National Oceanic and Atmospheric Administration National Marine Fisheries Service, U.S. Army Corps of Engineers, and the U.S. Coast Guard.

The EQRB Draft Environmental Impact Statement (EIS) included a No-Build Alternative and four build alternatives. It identified one build alternative (the Long-span Alternative) as the Preferred Alternative. Following the issuance of the Draft EIS, additional cost and funding analysis identified a substantial risk that the construction costs of any of the build alternatives would exceed $1 billion. The Selected Alternative is anticipated to cost between $830 to $915 million. This risk led the County to direct the project team to identify and evaluate ways to reduce the Project's construction costs while still meeting the Project's purpose and need and striving to achieve the other advantages of the Draft EIS Preferred Alternative. The Refined Long-span Alternative, which addressed that directive and was evaluated in the SDEIS, was identified as the Preferred Alternative in the SDEIS that was made available for public review and comment. The public was able to view and comment on the SDEIS for a period of 45 days from April 29 to June 13, 2022. The SDEIS NOA was published in the Federal Register on April 29, 2022. Multnomah County held live SDEIS Public Hearing testimony on June 8, 2022.

(Authority: 42 U.S.C. 4321 et seq.; 23 U.S.C. 139)

Issued on: January 25, 2024.
Keith Lynch,
FHWA Division Administrator, Salem, OR.

[FR Doc. 2024-01830 Filed 1-30-24; 8:45 am]

BILLING CODE 4910-RY-P